DEPARTMENT OF TRANSPORTATION

Federal Aviation Administration

14 CFR Part 39

[Docket No. FAA-2025-2542; Project Identifier MCAI-2024-00397-R]

RIN 2120-AA64

Airworthiness Directives; Airbus Helicopters

AGENCY: Federal Aviation Administration (FAA), DOT.

ACTION: Notice of proposed rulemaking (NPRM).

SUMMARY: The FAA proposes to supersede Airworthiness Directive (AD) 2022-19-13, which applies to all Airbus Helicopters Model AS355E, AS355-F, AS355-F1, AS355F2, AS355N, and AS355NP helicopters. AD 2022-19-13 requires incorporating into existing maintenance records certain requirements (airworthiness limitations). Since the FAA issued AD 2022-19-13, a determination was made that new or more restrictive airworthiness limitations are necessary. This proposed AD would require revising the airworthiness limitations section (ALS) of the existing maintenance manual (MM) or instructions for continued airworthiness (ICAs) and the existing approved maintenance or inspection program, as applicable. The FAA is proposing this AD to address the unsafe condition on these products.

DATES: The FAA must receive comments on this NPRM by October 30, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-2542; or in person at Docket Operations between 9 a.m. and 5 p.m., Monday through Friday, except Federal holidays. The AD docket contains this NPRM, the mandatory continuing airworthiness information (MCAI), any comments received, and other information. The street address for Docket Operations is listed above.

Material Incorporated by Reference:

• For European Union Aviation Safety Agency (EASA) material identified in this proposed AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-2542.

FOR FURTHER INFORMATION CONTACT: Matthew Williams, Aviation Safety Engineer, FAA, 1600 Stewart Avenue, Suite 410, Westbury, NY 11590; phone: (316) 946-4134; email: matthew.t.williams@faa.gov.

SUPPLEMENTARY INFORMATION:

Comments Invited

The FAA invites you to send any written relevant data, views, or arguments about this proposal. Send your comments to an address listed under the ADDRESSES section. Include “Docket No. FAA-2025-2542; Project Identifier MCAI-2024-00397-R” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Matthew Williams, Aviation Safety Engineer, FAA, 1600 Stewart Avenue, Suite 410, Westbury, NY 11590. Any commentary that the FAA receives which is not specifically designated as CBI will be placed in the public docket for this rulemaking.

Background

The FAA issued AD 2022-19-13, Amendment 39-22182 (87 FR 57814, September 22, 2022) (AD 2022-19-13), for Airbus Helicopters Model AS355E, AS355F, AS355F1, AS355F2, AS355N, and AS355NP helicopters. AD 2022-19-13 was prompted by an MCAI originated by EASA, which is the Technical Agent for the Member States of the European Union. EASA issued AD 2021-0193, dated August 20, 2021 (EASA AD 2021-0193) to address the identification of certain parts needing maintenance actions, including life limits and maintenance tasks.

AD 2022-19-13 requires incorporating into existing maintenance records certain requirements (airworthiness limitations), as specified in EASA AD 2021-0193. The FAA issued AD 2022-19-13 to address the failure of certain parts, which could result in the loss of control of the helicopter.

Actions Since AD 2022-19-13 Was Issued

Since the FAA issued AD 2022-19-13, EASA superseded AD 2021-0193 and issued EASA AD 2024-0134, dated July 10, 2024 (EASA AD 2024-0134) (also referred to as the MCAI), to address an unsafe condition on all Airbus Helicopters Model AS 355 E, AS 355 F, AS 355 F1, AS 355 F2, AS 355 N, and AS 355 NP helicopters. The MCAI states that new or more restrictive airworthiness limitations and repetitive checks requirements have been developed. Additionally, the MCAI advises that the airworthiness limitations are identified as mandatory for continued airworthiness and that AH [Airbus Helicopters] has issued applicable ALS revisions to specify new and more restrictive life limits and maintenance tasks, which includes repetitive checks and inspection requirements. The FAA is issuing this proposed AD to prevent failure of critical parts and primary structural components, which if not addressed, could result in loss of control of the helicopter.

You may examine the MCAI in the AD docket at regulations.gov under Docket No. FAA-2025-2542.

Relationship Between This Proposed AD and Other Relevant Rulemaking

EASA AD 2021-0193 notes that the requirements of EASA AD 2010-0006, dated January 7, 2010 (EASA AD 2010-0006) (which prompted FAA AD 2011-22-05 R1, Amendment 39-17765 (79 FR 14169, March 13, 2014) (AD 2011-22-05 R1)) and EASA AD 2015-0094, dated May 29, 2015 (EASA AD 2015-0094) (which prompted FAA AD 2016-25-20, Amendment 39-18746 (81 FR 94954, December 27, 2016) (AD 2016-25-20)) have been incorporated into the applicable ALS specified in EASA AD 2021-0193.

Accordingly, this proposed AD does not supersede AD 2011-22-05 R1 or AD 2016-25-20. Rather, the FAA has determined that a stand-alone AD is more appropriate to address the changes in EASA AD 2024-0134, which superseded EASA AD 2021-0193. Therefore, accomplishment of the required actions in this proposed AD terminates all of the requirements of AD 2011-22-05 R1 and AD 2016-25-20 for Model AS355E, AS 355-F, AS 355-F1, AS355F2, AS355N, and AS355NP helicopters only.

Material Incorporated by Reference Under 1 CFR Part 51

The FAA reviewed EASA AD 2024-0134, which specifies replacing components before exceeding their life limits and accomplishing all applicable maintenance tasks within thresholds and intervals specified in the ALS as defined in EASA AD 2024-0134. Depending on the results of the maintenance tasks, EASA AD 2024-0134 requires accomplishing corrective action(s) or contacting Airbus Helicopters for approved instructions and accomplishing those instructions.

Additionally, EASA AD 2024-0134 specifies revising the Aircraft Maintenance Programme (AMP) by incorporating the limitations, tasks, and associated thresholds and intervals described in the specified ALS, as applicable. Revising the AMP constitutes terminating action for the requirement to record accomplishment of the actions of replacing components before exceeding their life limits and accomplishing maintenance tasks within thresholds and intervals specified in the applicable ALS as specified in EASA AD 2024-0134 for demonstration of AD compliance on a continued basis.

This material is reasonably available because the interested parties have access to it through their normal course of business or by the means identified in the ADDRESSES section.

FAA's Determination

These products have been approved by the civil aviation authority (CAA) of another country and are approved for operation in the United States. Pursuant to the FAA's bilateral agreement with this State of Design Authority, it has notified the FAA of the unsafe condition described in the MCAI and material referenced above. The FAA is issuing this NPRM after determining that the unsafe condition described previously is likely to exist or develop on other products of the same type design.

Proposed AD Requirements in This NPRM

This proposed AD would require the actions specified in EASA AD 2024-0134, described previously, as incorporated by reference, except for any differences identified as exceptions in the regulatory text of this proposed AD.

Explanation of Required Compliance Information

In the FAA's ongoing efforts to improve the efficiency of the AD process, the FAA developed a process to use some CAA ADs as the primary source of information for compliance with requirements for corresponding FAA ADs. The FAA has been coordinating this process with manufacturers and CAAs. As a result, the FAA proposes to incorporate EASA AD 2024-0134 by reference in the FAA final rule. This proposed AD would, therefore, require compliance with EASA AD 2024-0134 in its entirety through that incorporation, except for any differences identified as exceptions in the regulatory text of this proposed AD. Using common terms that are the same as the heading of a particular section in EASA AD 2024-0134 does not mean that operators need comply only with that section. For example, where the AD requirement refers to “all required actions and compliance times,” compliance with this AD requirement is not limited to the section titled “Required Action(s) and Compliance Time(s)” in EASA AD 2024-0134. Material referenced in EASA AD 2024-0134 for compliance will be available at regulations.gov under Docket No. FAA-2025-2542 after the FAA final rule is published.

Costs of Compliance

The FAA estimates that this AD, if adopted as proposed, would affect 45 helicopters of U.S. registry.

The FAA estimates the following costs to comply with this proposed AD.

Estimated Costs
Action | Labor cost | Parts cost | Cost per product | Cost on U.S. operators
Revise ALS | 1 work-hour × $85 per hour = $85 | $0 | $85 | $3,825

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2022-19-13, Amendment 39-22182 (87 FR 57814, September 22, 2022); and

b. Adding the following new airworthiness directive:

Airbus Helicopters: Docket No. FAA-2025-2542; Project Identifier MCAI-2024-00397-R.

(a) Comments Due Date

The FAA must receive comments on this airworthiness directive (AD) by October 30, 2025.

(b) Affected ADs

(1) This AD replaces AD 2022-19-13, Amendment 39-22182 (87 FR 57814, September 22, 2022).

(2) This AD affects AD 2011-22-05 R1, Amendment 39-17765 (79 FR 14169, March 13, 2014) (AD 2011-22-05); and AD 2016-25-20, Amendment 39-18746 (81 FR 94954, December 27, 2016) (AD 2016-25-20).

(c) Applicability

This AD applies to Airbus Helicopters Model AS355E, AS 355-F, AS 355-F1, AS355F2, AS355N, and AS355NP helicopters, certificated in any category.

(d) Subject

Air Transport Association (ATA) of America Code 05, Time Limits/Maintenance Checks.

(e) Unsafe Condition

This AD was prompted by new or more restrictive airworthiness limitations. The FAA is issuing this AD to prevent failure of critical parts and primary structural components, which if not addressed, could result in loss of control of the helicopter.

(f) Compliance

Comply with this AD within the compliance times specified, unless already done.

(g) Required Actions

Except as specified in paragraphs (h) and (i) of this AD: Comply with all required actions and compliance times specified in, and in accordance with, European Union Aviation Safety Agency AD 2024-0134, dated July 10, 2024 (EASA AD 2024-0134).

(h) Exceptions to EASA AD 2024-0134

(1) Where EASA AD 2024-0134 refers to its effective date, this AD requires using the effective date of this AD.

(2) This AD does not adopt paragraphs (1), (2), (4), and (5) of EASA AD 2024-0134.

(3) Where paragraph (3) of EASA AD 2024-0134 specifies “Within 12 months after the effective date of this AD, revise the approved AMP”, this AD requires replacing that text with “Within 30 days after the effective date of this AD, revise the airworthiness limitations section of the existing maintenance manual or instructions for continued airworthiness and the existing approved maintenance or inspection program, as applicable”.

(4) The initial compliance time for doing the tasks specified in paragraph (3) of EASA AD 2024-0134 is on or before the applicable “limitations” and “associated thresholds” as incorporated by the requirements of paragraph (3) of EASA AD 2024-0134 or within 30 days after the effective date of this AD, whichever occurs later.

(5) This AD does not adopt the “Remarks” section of EASA AD 2024-0134.

(i) Provisions for Alternative Actions and Intervals

After the action required by paragraph (g) of this AD has been done, no alternative actions and associated thresholds and intervals, including life limits, are allowed unless they are approved as specified in the provisions of the “Ref. Publications” section of EASA AD 2024-0134.

(j) Terminating Action for ADs 2011-22-05 R1 and 2016-25-20

(1) Accomplishing the actions required by this AD terminates all requirements of AD 2011-22-05 R1 for Model AS355E, AS 355-F, AS 355-F1, AS355F2, AS355N, and AS355NP helicopters only.

(2) Accomplishing the actions required by this AD terminates all requirements of AD 2016-25-20 for Model AS355E, AS 355-F, AS 355-F1, AS355F2, AS355N, and AS355NP helicopters only.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD and email to: AMOC@faa.gov.

(2) Before using any approved AMOC, notify your appropriate principal inspector, or lacking a principal inspector, the manager of the local flight standards district office/certificate holding district office.

(l) Additional Information

For more information about this AD, contact Matthew Williams, Aviation Safety Engineer, FAA, 1600 Stewart Avenue, Suite 410, Westbury, NY 11590; phone: (316) 946-4134; email: matthew.t.williams@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0134, dated July 11, 2024.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on September 9, 2025.
Steven W. Thompson,
Acting Deputy Director, Compliance & Airworthiness Division, Aircraft Certification Service.

[FR Doc. 2025-17715 Filed 9-12-25; 8:45 am]

BILLING CODE 4910-13-P